INTERNATIONAL TRADE COMMISSION

[Investigation No. 337-TA-895]

Certain Multiple Mode Outdoor Grills and Parts Thereof; Commission Determination Not To Review an Initial Determination Granting Complainant's Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 12) granting the Complainant's motion to amend the Complaint and the Notice of Investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 26, 2013, based on a complaint filed on behalf of A&J Manufacturing, LLC of St. Simons, Georgia and A&J Manufacturing, Inc. of Green Cove Springs, Florida. 78 FR 59373 (Sept. 26, 2013). The complaint alleged violations of Section 337 of the Tariff Act of 1930, as amended, 19 U.S.C. 1337, in the sale for importation, importation, or sale within the United States after importation of certain multiple mode outdoor grills and parts thereof by reason of infringement of certain claims of U.S. Patent No. 8,381,712, U.S. Patent No. D660,646, and U.S. Patent No. D662,773 patent. The Commission's notice of investigation named as respondents Kamado Joe Company of Duluth, Georgia; Outdoor Leisure Products, Incorporated of Neosho, Missouri; Rankam Group of Gardena, California; Academy Ltd., d/b/a/Academy Sports + Outdoors of Katy, Texas; HEB Grocery Company, LP, d/b/a H-E-B of San Antonio, Texas; Kmart Corporation of Hoffman Estates, Illinois; Sears Brands Management Corporation, Sears Holdings Corporation, and Sears, Roebuck & Company, all of Hoffman Estates, Illinois; Tractor Supply Company of Brentwood, Tennessee; Guangdong Canbo Electrical Co., Ltd. of Foshan City, China; Chant Kitchen Equipment (HK), Ltd. of Jordan, Hong Kong; Dongguan Kingsun Enterprises Co., Ltd. of Dongguan City, China; Zhejiang Fudeer Electric Appliance Co., Ltd. of Taizhou Economic Development Zone, China; Ningbo Huige Outdoor Products Co., Ltd. of Fenghua City, China; Keesung Manufacturing Co., Ltd. of Panyu, China; Ningbo Spring Communication Technologies Co. Ltd. of Ningbo, China; Wuxi Joyray International Corporation of Wuxi, China; The Brinkmann Corporation of Dallas, Texas; W.C. Bradley Company of Columbus, Georgia; and GHP Group, Incorporated of Morton Grove, Illinois.

On November 19, 2013, Complainants filed an unopposed motion to amend the Complaint and Notice of Investigation. Complainants A&J sought to amend the Complaint and Notice of Investigation to (1) change the name of Respondent Kamado Joe Company to Premier Specialty Brands, LLC, (2) change the name of Respondent Rankam Group to Rankam Metal Products Manufactory Limited, USA, and (3) substitute Char-Broil, LLC for Respondent W.C. Bradley Co. A&J represented that Kamado Joe Company is a trade name for the legal entity Premier Specialty Brands, LLC; Rankam Metal Products Manufactory Limited, USA is the correct legal name for Rankam Group; and Char-Broil, LLC is a wholly owned subsidiary of W.C. Bradley Co.

On December 4, 2013, the ALJ granted the motion. The ALJ found that good cause exists to amend the Complaint and Notice of Investigation to correct the names of two of the Respondents and substitute Char-Broil, LLC for W.C. Bradley Co. to prevent confusion among the parties and the public by identifying the correct legal names of the parties in interest. The ALJ also found that the attorneys for the corrected parties were served in compliance with Commission Rule 210.14(b)(1). No petitions for review were filed.

The Commission has determined not to review the subject ID.

The authority for the Commission's determination is contained in section 337 of the Tariff Act of 1930, as amended (19 U.S.C. 1337), and in section 210.42 of the Commission's Rules of Practice and Procedure (19 CFR 210.42).

By order of the Commission.
Issued: December 23, 2013.
Lisa R. Barton,
Acting Secretary to the Commission.

[FR Doc. 2013-31056 Filed 12-26-13; 8:45 am]

BILLING CODE 7020-02-P